DEPARTMENT OF THE INTERIOR

National Park Service

Notice of Intent to Repatriate a Cultural Item: University of Pennsylvania Museum of Archaeology and Anthropology, Philadelphia, PA

AGENCY: National Park Service, Interior.

ACTION: Notice.

Notice is here given in accordance with the Native American Graves Protection and Repatriation Act (NAGPRA), 25 U.S.C. 3005, of the intent to repatriate a cultural item in the possession of the University of Pennsylvania Museum of Archaeology and Anthropology, Philadelphia, PA that meets the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The one cultural item is a wooden bowl (UPM# 29-48-301) created from a tree burl or knot. Cross hatching is visible on the outside surface of the bowl. The bowl also has a raised projection along one edge of the rim. It is possible that this projection was notched twice, but is now too worn down to make a positive determination.

In 1910, Mark Raymond Harrington purchased the bowl (me te gwi na gun) from a Fox Chief, named Pushetonequa (Pu ci ta ni kwe), in Iowa during an ethnological expedition funded by George Gustav Heye, a member of the University of Pennsylvania Museum of Archaeology and Anthropology Board of Overseers. At an unknown date, but probably in 1911, University of Pennsylvania Museum of Archaeology and Anthropology provided storage space for much of Mr. Heye's collection, including the bowl. On October 22, 1919, University of Pennsylvania Museum of Archaeology and Anthropology formally received the bowl as part of an exchange with Mr. Heye. In 1930, the bowl was catalogued into the permanent collection.

The cultural affiliation of the bowl is “Fox” or “Meskwaki” as indicated by museum records. Officials of the University of Pennsylvania Museum consulted with representatives of the Sac and Fox Tribe of the Mississippi in Iowa. Based on consultation and available literature, wooden bowls of this type are needed by traditional Meskwaki (Fox) religious leaders in order to pray to and communicate with their gods. Bowls of this type were and still are used in many complex and traditional religious practices and ceremonies, such as the Sacred Bundle Ceremony, the Ceremonial Feast to Honor the Departed, the Ceremonial Naming Feast, the Return of the Name Feast, and Ceremonial Adoptions.

Officials of the University of Pennsylvania Museum of Archaeology and Anthropology have determined that, pursuant to 25 U.S.C. 3001 (3)(C), the one cultural item described above is a specific ceremonial object needed by traditional Native American religious leaders for the practice of traditional Native American religions by their present-day adherents. Officials of the University of Pennsylvania Museum of Archaeology and Anthropology also have determined that, pursuant to 25 U.S.C. 3001 (2), there is a relationship of shared group identity that can be reasonably traced between the bowl and the Sac and Fox Tribe of the Mississippi in Iowa. Lastly, officials of the University of Pennsylvania Museum of Archaeology and Anthropology have concluded that, pursuant to 25 U.S.C. 3001 (13), the University of Pennsylvania Museum of Archaeology and Anthropology has right of possession of the sacred object, but in recognition of the significance of the sacred object to the tribe's contemporary religious practices and its historical significance, consistent with the intent of NAGPRA, and in compromise, the University of Pennsylvania Museum of Archaeology and Anthropology wishes to voluntarily return the bowl to the Sac and Fox Tribe of the Mississippi in Iowa.

Representatives of any other Indian tribe that believes itself to be culturally affiliated with the sacred object should contact Dr. Richard M. Leventhal, The Williams Director, University of Pennsylvania Museum of Archaeology and Anthropology, 3260 South Street, Philadelphia, PA 19104-6324, telephone (215) 898-4050, before September 2, 2005. Repatriation of the sacred object to the Sac and Fox Tribe of the Mississippi in Iowa may proceed after that date if no additional claimants come forward.

The University of Pennsylvania Museum of Archaeology and Anthropology is responsible for notifying the Sac and Fox Tribe of the Mississippi in Iowa that this notice has been published.

Dated: July 5, 2005
Sherry Hutt,
Manager, National NAGPRA Program

[FR Doc. 05-15318 Filed 8-2-05; 8:45 am]

BILLING CODE 4312-50-S